DEPARTMENT OF ENERGY

Federal Energy Regulatory Commission

[Docket No. RP98-42-021]

ANR Pipeline Company; Notice of Refund Report

August 8, 2001.

Take notice that on July 30, 2001, ANR Pipeline Company (ANR), tendered for filing its Refund Report in the referenced proceeding related to the settlement of Kansas ad valorem refunds.

ANR states that it dispersed refunds, with interest, to producers/working interest owners entitled to a refund on June 30, 2001 with supporting schedules in accordance with the Stipulation in the above-referenced proceeding.

ANR states that a copy of this filing including the Appendix A of the Stipulation has been mailed to each affected state regulatory commission and to ANR's customers.

Any person desiring to protest said filing should file a protest with the Federal Energy Regulatory Commission, 888 First Street, NE., Washington, DC 20426, in accordance with Section 385.211 of the Commission's Rules and Regulations. All such protests must be filed on or before August 14, 2001. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-20346 Filed 8-13-01; 8:45 am]

BILLING CODE 6717-01-P